DEPARTMENT OF ENERGY

Federal Energy Regulatory Commission

Notice of Application Ready for Environmental Analysis and Soliciting Comments, Recommendations, Terms and Conditions, and Prescriptions

July 31, 2002.

Take notice that the following hydroelectric application has been filed with the Commission and is available for public inspection.

a. Type of Application: New Minor License.

b. Project No.: 2782-006.

c. Date filed: October 30, 2001.

d. Applicant: Parowan City.

e. Name of Project: Red Creek Hydroelectric Project.

f. Location: On Red Creek, near the City of Paragonah, in Iron County, Utah. The project occupies about 19 acres of United States lands administered by the Bureau of Land Management.

g. Filed Pursuant to: Federal Power Act 16 U.S.C. 791(a)—825(r).

h. Applicant Contact: Alden C. Robinson, Sunrise Engineering, Inc., 25 E. 500 N., Fillmore, Utah 84631-3513; (435) 743-1143.

i. FERC Contact: Steve Hocking at steve.hocking@ferc.gov or (202) 219-2656.

j. Cooperating agencies: We ask Federal, state, local, and tribal agencies with jurisdiction and/or special expertise with respect to environmental issues to cooperate with us in the preparation of an environmental document for this project. Agencies who would like to request cooperating agency status should follow the instructions for filing comments described in item k below.

k. Deadline for filing comments, recommendations, terms and conditions, prescriptions, and requests for cooperating agency status: 60 days from the issuance of this notice.

All documents (original and eight copies) should be filed with: Magalie R. Salas, Secretary, Federal Energy Regulatory Commission, 888 First Street, NE., Washington, DC 20426.

The Commission's rules of practice require all intervenors filing documents with the Commission to serve a copy of that document on each person on the official service list for the project. Further, if an intervener files comments or documents with the Commission relating to the merits of an issue that may affect the responsibilities of a particular resource agency, they must also serve a copy of the document on that resource agency.

Comments, recommendations, terms and conditions, prescriptions, and requests for cooperating agency status may be filed electronically via the Internet in lieu of paper. See 18 CFR 385.2001(a)(1)(iii) and the instructions on the Commission's web site (http://www.ferc.gov) under the “e-Filing” link. The Commission strongly encourages electronic filings.

l. This application has been accepted and is ready for environmental analysis at this time.

m. Description of the Project: The existing project consists of: (1) The Red Creek diversion dam which is a concrete structure 8 feet high and 48 feet long; an intake with a radial gate and trash rack connected to a 16,098-foot-long, 16 to 18-inch diameter steel penstock, (2) the South Fork diversion dam which is a concrete structure 8 feet high and 29 feet long; an intake with a radial gate and trash rack connected to a 4,263-foot-long, 10-inch diameter steel penstock, (3) a pump station at the junction of the South Fork and Red Creek penstocks housing a 15 horsepower and a 20 horsepower pump with control equipment, (4) a 27-foot by 32-foot concrete block powerhouse with a single 500-kilowatt (kW) generator, (5) two 270-foot-long transmission lines, and (6) appurtenant facilities.

n. A copy of the application is on file with the Commission and is available for public inspection. This filing may also be viewed on the web at http://www.ferc.gov using the “RIMS” link—select “Docket #” and follow the instructions (call 202-208-2222 for assistance). A copy is also available for inspection and reproduction at the address in item h above.

o. The Commission directs, pursuant to Section 4.34(b) of the Regulations (see Order No. 533 issued May 8, 1991, 56 FR 23108, May 20, 1991) that all comments, recommendations, terms and conditions and prescriptions concerning the application be filed with the Commission within 60 days from the issuance date of this notice. All reply comments must be filed with the Commission within 105 days from the date of this notice.

Anyone may obtain an extension of time for these deadlines from the Commission only upon a showing of good cause or extraordinary circumstances in accordance with 18 CFR 385.2008.

All filings must: (1) Bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

Linwood A. Watson, Jr.,
Deputy Secretary.

[FR Doc. 02-19775 Filed 8-5-02; 8:45 am]

BILLING CODE 6717-01-P